DEPARTMENT OF HEALTH AND HUMAN SERVICES

Centers for Disease Control and Prevention

[60-Day-15-0978; Docket No. CDC-2015-0030]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collection for the Emerging Infections Program. The Emerging Infections Programs (EIPs) are population-based centers of excellence established through a network of state health departments collaborating with academic institutions; local health departments; public health and clinical laboratories; infection control professionals; and healthcare providers. EIPs assist in local, state, and national efforts to prevent, control, and monitor the public health impact of infectious diseases through population-based surveillance.

DATES: Written comments must be received on or before July 6, 2015.

ADDRESSES: You may submit comments, identified by Docket No. CDC-2015-0030 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Emerging Infections Program—(OMB Control No. 0920-0978, Expires 8/31/2016)—Revision—National Center for Emerging and Zoonotic Infectious Diseases (NCEZID), Centers for Disease Control and Prevention (CDC).

Background and Brief Description

The Emerging Infections Programs (EIPs) are population-based centers of excellence established through a network of state health departments collaborating with academic institutions; local health departments; public health and clinical laboratories; infection control professionals; and healthcare providers. EIPs assist in local, state, and national efforts to prevent, control, and monitor the public health impact of infectious diseases. Various parts of the EIP have received separate Office of Management and Budget (OMB) clearances (Active Bacterial Core Surveillance [ABCs]—OMB number 0920-0802 and All Age Influenza Hospitalization Surveillance—OMB number 0920-0852); however this request seeks to have all core EIP activities under one clearance.

Activities of the EIPs fall into the following general categories: (1) Active surveillance; (2) applied public health epidemiologic and laboratory activities; (3) implementation and evaluation of pilot prevention/intervention projects; and (4) flexible response to public health emergencies.

Activities of the EIPs are designed to: (1) Address issues that the EIP network is particularly suited to investigate; (2) maintain sufficient flexibility for emergency response and new problems as they arise; (3) develop and evaluate public health interventions to inform public health policy and treatment guidelines; (4) incorporate training as a key function; and (5) prioritize projects that lead directly to the prevention of disease.

Proposed respondents will include state health departments who may collaborate with one or more of the following: Academic institutions, local health departments, public health and clinical laboratories, infection control professionals, and healthcare providers. Frequency of reporting will be determined as cases arise.

The total estimated burden is 22,755 hours. There is no cost to respondents other than their time.

Estimated Annualized Burden Hours
Type of respondent | Form name | Number of respondents | Number of responses per respondent | Average burden per response (in hours) | Total burden (in hours)
State Health Department | ABCs Case Report Form | 10 | 809 | 20/60 | 2,697
| Invasive Methicillin-resistant Staphylococcus aureus ABCs Case Report Form | 10 | 609 | 20/60 | 2,030
| ABCs Invasive Pneumococcal Disease in Children Case Report Form | 10 | 22 | 10/60 | 37
| ABCs Non-Bacteremic Pneumococcal Disease Case Report Form | 10 | 100 | 10/60 | 167
| Neonatal Infection Expanded Tracking Form | 10 | 37 | 20/60 | 123
| ABCs Legionellosis Case Report Form | 10 | 100 | 20/60 | 333
| Campylobacter | 10 | 637 | 20/60 | 2,123
| Cryptosporidium | 10 | 130 | 10/60 | 217
| Cyclospora | 10 | 3 | 10/60 | 5
| Listeria monocytogenes | 10 | 13 | 20/60 | 43
| Salmonella | 10 | 827 | 20/60 | 2,757
| Shiga toxin producing E. coli | 10 | 90 | 20/60 | 300
| Shigella | 10 | 178 | 10/60 | 297
| Vibrio | 10 | 20 | 10/60 | 33
| Yersinia | 10 | 16 | 10/60 | 27
| Hemolytic Uremic Syndrome | 10 | 10 | 1 | 100
| Influenza Hospitalization Surveillance Project Case Report Form | 10 | 400 | 15/60 | 1,000
| Influenza Hospitalization Surveillance Project Vaccination Telephone Survey | 10 | 100 | 5/60 | 83
| Influenza Hospitalization Surveillance Project Vaccination Telephone Survey Consent Form | 10 | 100 | 5/60 | 83 v
EIP site | CDI Case Report Form | 10 | 1,650 | 20/60 | 5,500
| CDI Treatment Form | 10 | 1,650 | 10/60 | 2,750
| Resistant Gram-Negative Bacilli Case Report Form | 10 | 500 | 20/60 | 1,667
Person in the community infected with C. difficile (CDI Cases) | Screening Form | 600 | 1 | 5/60 | 50
| Telephone interview | 500 | 1 | 40/60 | 333
Total |  |  |  |  | 22,728

Leroy A. Richardson,
Chief, Information Collection Review Office, Office of Scientific Integrity, Office of the Associate Director for Science, Office of the Director, Centers for Disease Control and Prevention.

[FR Doc. 2015-10543 Filed 5-5-15; 8:45 am]

BILLING CODE 4163-18-P